DEPARTMENT OF THE TREASURY

Internal Revenue Service

26 CFR Part 1

[REG-128572-03]

RIN 1545-BC24

Application of Sections 265(a)(2) and 246A in Multi-Party Financing Arrangements; Request for Comments; Correction

AGENCY: Internal Revenue Service (IRS), Treasury.

ACTION: Correction to an advance notice of proposed rulemaking.

SUMMARY: This document contains a correction to an advance notice of proposed rulemaking that was published in the Federal Register on Friday, May 7, 2004 (69 FR 25534), soliciting comments and suggestions regarding the scope and details of regulations that may be proposed under section 7701(f) of the Internal Revenue Code to address the application of sections 265(a)(2) and 246A in transactions involving related parties, pass-through entities, or other intermediaries.

FOR FURTHER INFORMATION CONTACT: Avital Grunhaus (202) 622-3930 (not a toll-free number).

SUPPLEMENTARY INFORMATION:

Background

The advance notice of proposed rulemaking (REG-128572-03) that is the subject of this correction is under sections 246A, 265(a)(2) and 7701(f) of the Internal Revenue Code.

Need for Correction

As published, the advance notice of proposed rulemaking (REG-128572-03) contains an error that may prove to be misleading and is in need of clarification.

Correction of Publication

Accordingly, the publication of the advance notice of proposed rulemaking (REG-128572-03), that was the subject of FR Doc. 04-10476, is corrected as follows:

1. On page 25534, column 2, in the preamble under the paragraph heading “Background”, second full paragraph, line 5, the language, “2004-47 (2004-20 I.R.B.), which” is corrected to read “2004-47 (2004-21 I.R.B.), which”.

Cynthia E. Grigsby,
Acting Chief, Publications and Regulations Branch, Legal Processing Division, Associate Chief Counsel, (Procedure and Administration).

[FR Doc. 04-12159 Filed 5-27-04; 8:45 am]

BILLING CODE 4830-01-P